FEDERAL COMMUNICATIONS COMMISSION

Notice of Public Information Collection(s) Being Reviewed by the Federal Communications Commission, Comments Requested

May 25, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 6, 2005. If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW., Washington, DC 20554 or via the Internet to Cathy.Williams@fcc.gov.

FOR FURTHER INFORMATION CONTACT: For additional information or copies of the information collection(s), contact Cathy Williams at (202) 418-2918 or via the Internet at Cathy.Williams@fcc.gov.

SUPPLEMENTARY INFORMATION: OMB Control Number: 3060-0407.

Title: Section 73.3598, Period of Construction.

Form Number: Not applicable.

Type of Review: Revision of a currently approved collection.

Respondents: Business or other for-profit entities; Not-for-profit institutions.

Number of Respondents: 120.

Estimated Time per Response: 15 minutes-3 hours.

Frequency of Response: Recordkeeping requirement; On occasion reporting requirement.

Total Annual Burden: 240 hours.

Total Annual Cost: $18,000.

Privacy Impact Assessment: No impact(s).

Needs and Uses: When a permit is subject to tolling construction is encumbered due to an act of God, or when a construction permit is the subject of administrative or judicial review, 47 CFR Section 73.3 598(c) requires a permittee to notify the Commission as promptly as possible and, in any event, within 30 days, and to provide supporting documentation. All notifications must also be filed in the station's local public file. On March 17, 2005, the Commission released a Second Order on Reconsideration and Further Notice of Proposed Rulemaking (FNPRM), the Matter of the Creation of a Low Power Radio Service, MM Docket No. 99-25, FCC 05-75. The Second Order on Reconsideration established an interim waiver policy to increase the likelihood that permittees will complete construction and commence operation. Therefore, the Commission delegated to the Media Bureau the authority to consider requests for waivers of the construction period as specified in 47 CFR Section 73.3598(a) even if the requirements under the tolling rules are not met. An Low Power FM (LPFM) permittee may request a waiver and the waiver may be granted if the permittee demonstrates that construction of its broadcast facilities cannot be completed within the allotted 18 months for reasons beyond its control, that the permittee expects to be able to complete construction within the additional 18 months that the construction extension would provide, and that the public interest would be served by the extension.

OMB Control Number: 3060-0920.

Title: Application for Construction Permit for a Low Power FM Broadcast Station; Report and Order in MM Docket No. 99-25 Creation of Low Power Radio Service.

Form Number: FCC Form 318.

Type of Review: Revision of a currently approved collection.

Respondents: Not-for-profit institutions; State, local or tribal government.

Number of Respondents: 16,422.

Estimated Time per Response: 15 minutes-12 hours.

Frequency of Response: Recordkeeping requirement; On occasion reporting requirement; Third party disclosure requirement.

Total Annual Burden: 33,866 hours.

Total Annual Cost: $23,850.

Privacy Impact Assessment: No impact(s).

Needs and Uses: On March 17, 2005, the FCC released a Second Order on Reconsideration and Further Notice of Proposed Rulemaking (FNPRM), In the Matter of Creation of a Low Power Radio Service, MM Docket No. 99-25, FCC 05-75. The Second Order on Reconsideration amended 47 CFR 73.870 and 73.871 to allow licensees and permittees to file minor change applications and minor amendments to pending FCC Form 318 applications by requesting authority for transmitter site location of up to 5.6 kilometers for LP 100 facilities and up to 3.2 kilometers for LP 10 facilities.

FCC Form 318 is required: (1) To apply for a construction permit for a new Low Power FM (LPFM) station; (2) to make changes in the existing facilities of such a station; or (3) to amend a pending FCC Form 318 application. The Commission authorizes the licensing of two classes of Low Power FM (LPFM) radio stations: a Low Power (LP) 100 Class which is used for stations operating at 50-100 watts effective radiated power at an antenna height above average terrain (HAAT) of 30 meters; and a Low Power (LP) 10 Class which is used for stations operating at 1-10 watts ERP and an antenna height of 30 meters HAAT.

Federal Communications Commission.
Marlene H. Dortch,
Secretary.

[FR Doc. 05-13036 Filed 7-5-05; 8:45 am]

BILLING CODE 6712-10-P